DEPARTMENT OF THE INTERIOR

Bureau of Ocean Energy Management

[Docket No. BOEM-2012-0049]

Intent To Prepare Environmental Impact Statements: Potential Commercial Wind Lease Issuance and Decision Regarding Approval of Construction and Operations Plan on the Atlantic Outer Continental Shelf (OCS) Offshore Maine

AGENCY: Bureau of Ocean Energy Management (BOEM), Interior.

ACTION: Notice.

SUMMARY: On October 12, 2011, BOEM received an unsolicited request from Statoil North America Inc. (Statoil NA) for a commercial wind lease on the OCS offshore Maine. Upon the submittal of a construction and operations plan (COP), BOEM intends to prepare an environmental impact statement (EIS) that will consider the environmental consequences associated with the Hywind Maine project proposed by Statoil NA, and to obtain public input regarding important environmental issues that should be considered in the EIS.

Authority: The Notice of Intent to prepare an EIS is published pursuant to 40 CFR 1501.7.

DATES: Comments should be submitted no later than November 8, 2012.

Submission Procedures: Federal, state, local government agencies, tribal governments, and other interested parties are requested to send their written comments on the important issues to be considered in the EIS by either of the following two methods:

1. Federal eRulemaking Portal: http://www.regulations.gov. In the entry titled “Enter Keyword or ID,” enter BOEM-2012-0049, and then click “search.” Follow the instructions to submit public comments and view supporting and related materials available for this notice.

2. By U.S. Postal Service or other delivery service, send your comments and information to the following address: Bureau of Ocean Energy Management, Office of Renewable Energy, 381 Elden Street, HM 1328, Herndon, Virginia 20170-4817.

Before including your address, phone number, email address, or other personal identifying information in your comment, you should be aware that your entire comment—including your personal identifying information—may be made publicly available at any time. While you can ask us in your comments to withhold your personal identifying information from public review, we cannot guarantee that we will be able to do so.

FOR FURTHER INFORMATION CONTACT: Michelle Morin, BOEM, Environment Branch for Renewable Energy, 381 Elden Street, HM 1328, Herndon, Virginia 20170-4817; (703) 787-1722 or michelle.morin@boem.gov.

SUPPLEMENTARY INFORMATION:

1. Background

Statoil NA's proposed project, Hywind Maine, would consist of four 3-megawatt (MW) floating wind turbine generators (WTGs) configured for a total of 12 MW. The project would be located in water depths greater than 100 meters approximately 12 nautical miles off the coast of Maine. Statoil NA's short-term objective is to construct the Hywind Maine project to demonstrate the commercial potential of the existing floating offshore Hywind technology, while responding to a corresponding Request for Proposal issued by the Maine Public Utilities Commission. The company's long-term objective, not represented in this leasing request by Statoil NA, is to construct a full-scale, deepwater floating wind turbine facility that leverages economies of scale as well as technical and operational enhancements developed in the Hywind Maine project. The full-scale project would be subject to a subsequent and separate leasing and environmental review process.

BOEM will publish a Request for Interest (RFI) concurrently with this NOI to determine whether competitive interest exists for the area requested by Statoil NA, as required by 43 U.S.1337(p)(3). The RFI also requests that interested and affected parties comment and provide information about site conditions and multiple uses within the area identified in the notice that would be relevant to the proposed project or its impacts. Comments received on the RFI will be included as part of the scoping process for the EIS.

If BOEM determines there is no competition, Statoil NA would submit a construction and operations plan (COP) to BOEM that describes the proposed construction, activities, and decommissioning plans for all proposed facilities and includes the results of any site characterization surveys that have been conducted, such as geophysical, geotechnical, archaeological, and biological surveys. See 30 CFR 585.620-585.629. However, if BOEM determines there is competition, then it will proceed with the competitive leasing process outlined in 30 CFR 585.211-225. In the event there is competition, BOEM is likely to proceed under the “Smart from the Start” initiative, as it has elsewhere on the Atlantic OCS, by preparing an environmental assessment (EA) that analyzes the potential impacts of lease issuance and associated site characterization and assessment activities. Implementation of this process, including the preparation of such NEPA analysis would necessitate issuance of a new NOI. Whether following competitive or non-competitive procedures, BOEM will comply with all applicable requirements of National Environmental Policy Act (NEPA) prior to making a decision on whether or not to issue a lease and approve, disapprove, or approve with modifications the associated plan(s).

Statoil NA's October 12, 2011 application and map of the proposed lease area can be found at the following URL: http://www.boem.gov/Renewable-Energy-Program/State-Activities/Maine.aspx.

2. Proposed Action and Scope of Analysis

This notice starts the formal scoping process for the EIS under 40 CFR 150.7, and solicits information regarding important environmental issues, alternatives, and mitigation that should be considered in the EIS. BOEM will use responses to this NOI and the EIS public input process to satisfy the public involvement requirements of the National Historic Preservation Act (16 U.S.C. 470f), as provided in 36 CFR 800.2(d)(3), and is seeking information from the public on the identification of historic properties that might be impacted by the Statoil NA project. The analyses contained within the EIS will also support compliance with other environmental statutes (e.g., Endangered Species Act, Magnuson-Stevens Fishery Conservation and Management Act, and Marine Mammal Protection Act).

The proposed action that will be the subject of the EIS is the issuance of a commercial lease and the approval or approval with modification of the COP for Statoil NA's Hywind Maine project offshore Maine. In addition to the no action alternative (i.e., no issuance of a commercial lease or approval of the COP), other alternatives may be considered, such as exclusion of certain areas from project siting or modification of project activities. The EIS will consider the reasonably foreseeable environmental consequences associated with the project, including the impacts of site characterization surveys that may be undertaken by Statoil NA and the construction, operations, maintenance, and decommissioning of the four WTGs that would be serially interconnected with infield cables and with a subsea export cable to shore. After a COP is submitted and a draft EIS issued, the public will have further opportunity to comment.

3. Cooperating Agencies

BOEM invites Federal, state, and local government agencies, as well as tribal governments, to consider becoming cooperating agencies in the preparation of this EIS. Council on Environmental Quality (CEQ) regulations implementing the procedural provisions of NEPA defines cooperating agencies as those with “jurisdiction by law or special expertise” (40 CFR 1508.5). Potential cooperating agencies should consider their authority and capacity to assume the responsibilities of a cooperating agency and remember that an agency's role in the environmental analysis neither enlarges nor diminishes the final decision-making authority of any other agency involved in the NEPA process.

Upon request, BOEM will provide potential cooperating agencies with a draft Memorandum of Agreement that includes a schedule with critical action dates and milestones, mutual responsibilities, designated points of contact, and expectations for handling pre-decisional information. Agencies should also consider the ”Factors for Determining Cooperating Agency Status” in Attachment 1 to CEQ's January 30, 2002, Memorandum for the Heads of Federal Agencies: Cooperating Agencies in Implementing the Procedural Requirements of the NEPA. A copy of this document is available at: http://ceg.hss.doe.gov/nepa/regs/cooperating/cooperatingagenciesmemorandum.html and at: http://ceg.hss.doe.gov/nepa/regs/cooperating/cooperatingagencymemofactors.html.

BOEM, as the lead agency, will not provide financial assistance to cooperating agencies. Even if an organization is not a cooperating agency, opportunities will exist to provide information and comments to BOEM during the normal public input phases of the NEPA/EIS process.

4. Public Scoping Meetings

Public scoping meetings will be held in Maine later this year. Specific times and venues will be posted on the BOEM Web site and published in the Federal Register per 40 CFR 1506.6.

Dated: August 1, 2012.
Tommy P. Beaudreau,
Director, Bureau of Ocean Energy Management.

[FR Doc. 2012-19592 Filed 8-9-12; 8:45 am]

BILLING CODE 4310-VH-P